FEDERAL RETIREMENT THRIFT INVESTMENT BOARD

Notice of Meeting of the Employee Thrift Advisory Council

DATES: October 27, 2022 at 10 a.m.

ADDRESSES: Telephonic. Dial-in (listen only) information: Number: 1-202-599-1426, Code: 970 258 547#; or via web: https://teams.microsoft.com/l/meetup-join/19%3ameeting_MmE3OGUwNTYtNTFjOC00YzQyLTg3ZjQtNmExODUwZDhiNzk5%40thread.v2/0?context=%7b%22Tid%22%3a%223f6323b7-e3fd-4f35-b43d-1a7afae5910d%22%2c%22Oid%22%3a%22533f2df2-5cef-4200-af1c-6d760c60d9cf%22%7d

FOR FURTHER INFORMATION CONTACT: Kimberly Weaver, Director, Office of External Affairs, (202) 942-1640.

SUPPLEMENTARY INFORMATION:

Meeting Agenda

1. Approval of the minutes of the May 24, 2022, Joint Board/ETAC meeting

2. Election of ETAC Chair

3. FY22 TSP Review

4. September 2022 Investment Program Review—G, F, C, S, I, and L Funds

5. Converge Update

6. FY2023 FRTIB Budget

7. Participant Satisfaction Report

8. Legislative Update

9. New Business

Authority: 5 U.S.C. 552b(e)(1).

Dated: October 12, 2022.
Dharmesh Vashee,
General Counsel, Federal Retirement Thrift Investment Board.

[FR Doc. 2022-22512 Filed 10-14-22; 8:45 am]

BILLING CODE P